DEPARTMENT OF ENERGY

Federal Energy Regulatory Commission

[Docket Nos. EL00-95-000, et al.; Docket Nos. EL00-98-000, et al.; and Docket Nos. ER03-746-000, et al.]

San Diego Gas & Electric Company; Investigation of Practices of the California Independent System Operator and the California Power Exchange; California Independent System Operator; Notice of Comment Procedures

July 29, 2004.

On July 26, 2004, the Federal Energy Regulatory Commission (Commission) staff held a meeting with the California Independent System Operator (CAISO) and the California Power Exchange (CalPX) to discuss procedures, remaining steps and timeline for completing the calculation of refunds in the California Refund proceeding. At the conclusion of the technical conference, Commission staff announced that it would accept comments and replies to comments on the matters discussed at the technical conference and that it would provide additional detail on filing procedures.

Comments and replies should be filed in the root dockets i.e., the docket numbers listed in the instant notice). Comments are due on Monday, August 2, 2004, and replies to those comments are due by Friday, August 6, 2004. Comments and replies are limited to 10 pages. All comments and replies must be strictly limited to issues relating to process or procedural matters consistent with the July 26 technical. At the technical conference, staff also asked that commenters include a list of rehearing or clarification issues that have implications for the refund process. Commenters are directed to provide a list only, and not to raise new issues or expand upon matters already raised in requests for rehearing, as the deadline for rehearing requests has expired. The Commission will not entertain new arguments. Finally, the CAISO and CalPX are directed to file copies of their presentations.

Questions about the comment procedures should be directed to Andrea Hilliard Office of the General Counsel—Markets, Tariffs and Rates at 202-502-8288 or andrea.hilliard@ferc.gov.

Magalie R. Salas,
Secretary.

[FR Doc. E4-1723 Filed 8-3-04; 8:45 am]

BILLING CODE 6717-01-P